DEPARTMENT OF TRANSPORTATION

Federal Railroad Administration

[Docket No. FRA-2018-0008-N-4]

Proposed Agency Information Collection Activities; Comment Request

AGENCY: Federal Railroad Administration (FRA), U.S. Department of Transportation (DOT).

ACTION: Notice of information collection and request for comment.

SUMMARY: Under the Paperwork Reduction Act of 1995 (PRA) and its implementing regulations, FRA is informing the public that FRA has made five proposed revisions to the Quarterly Positive Train Control (PTC) Progress Report Form (Form FRA F 6180.165) and Annual PTC Progress Report Form (Form FRA F 6180.166), which the Office of Management and Budget (OMB) previously approved on August 15, 2017, under its regular processing procedures. Before submitting this revised information collection request (ICR) to OMB for regular clearance and approval, FRA is soliciting public comment on specific aspects of the proposed ICR.

DATES: Interested persons are invited to submit comments on or before July 9, 2018.

ADDRESSES: Submit written comments on the ICR activities by mail to either: Mr. Robert Brogan, Information Collection Clearance Officer, Office of Railroad Safety, Regulatory Analysis Division, RRS-21, Federal Railroad Administration, 1200 New Jersey Avenue SE, Room W33-497, Washington, DC 20590; or Ms. Kim Toone, Information Collection Clearance Officer, Office of Information Technology, RAD-20, Federal Railroad Administration, 1200 New Jersey Avenue SE, Room W34-212, Washington, DC 20590. Commenters requesting FRA to acknowledge receipt of their respective comments must include a self-addressed stamped postcard stating, “Comments on OMB Control Number 2130-0553,” and should also include the title of the ICR. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, RRS-21, Federal Railroad Administration, 1200 New Jersey Avenue SE, Room W33-497, Washington, DC 20590 (telephone: (202) 493-6292); or Ms. Kim Toone, Information Collection Clearance Officer, Office of Information Technology, RAD-20, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8-12.

Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment will promote its efforts to reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

II. Background on the Quarterly and Annual PTC Reporting Requirements

Under the Positive Train Control Enforcement and Implementation Act of 2015 (PTCEI Act), each railroad subject to 49 U.S.C. 20157(a) must submit an annual progress report to FRA by March 31, 2016, and annually thereafter, until PTC system implementation is completed. 49 U.S.C. 20157(c)(1). The PTCEI Act specifically requires each railroad to provide certain information in the annual reports regarding its progress toward implementing a PTC system, in addition to any other information FRA requests. See id. In addition, 49 U.S.C. 20157(c)(2) requires FRA to conduct compliance reviews at least annually to ensure each railroad is complying with its revised PTC Implementation Plan (PTCIP), including any FRA-approved amendments. The PTCEI Act requires railroads to provide information to FRA that FRA determines is necessary to adequately conduct such compliance reviews. 49 U.S.C. 20157(c)(2).

Under its statutory and regulatory investigative authorities, FRA currently requires, and seeks to continue requiring, each subject railroad to submit Quarterly PTC Progress Reports (Form FRA F 6180.165) and Annual PTC Progress Reports (Form FRA F 6180.166) on its PTC system implementation progress. See 49 U.S.C. 20157(c)(1)-(2); see also 49 U.S.C. 20107; 49 CFR 236.1009(h).

Specifically, in addition to the Annual PTC Progress Report (Form FRA F 6180.166) due each March 31 under 49 U.S.C. 20157(c)(1), railroads must provide quarterly progress reports covering the preceding three-month period and submit the forms to FRA on the dates in the following table until full PTC system implementation is completed:

| Coverage period | Due dates for quarterly reports
Q1 | January 1-March 31 | April 30.
Q2 | April 1-June 30 | July 31.
Q3 | July 1-September 30 | October 31.
Q4 | October 1-December 31 | January 31.

Each railroad must submit its Quarterly PTC Progress Reports on Form FRA F 6180.165 and its Annual PTC Progress Reports on Form FRA F 6180.166 on FRA's Secure Information Repository at https://sir.fra.dot.gov.

II. Proposed Revisions to the Quarterly and Annual PTC Progress Report Forms

On August 15, 2017, OMB approved the Quarterly PTC Progress Report (Form FRA F 6180.165) and Annual PTC Progress Report (Form FRA F 6180.166) for a period of one year, expiring on August 31, 2018. The current Quarterly PTC Progress Report Form and Annual PTC Progress Report Form, as approved through August 31, 2018, can be accessed and downloaded in FRA's eLibrary at: https://www.fra.dot.gov/eLib/details/L17365 and https://www.fra.dot.gov/eLib/details/L17366, respectively. These versions of the forms took into account the Association of American Railroads' written comments on behalf of itself and its member railroads; the American Public Transportation Association's written comments on behalf of Northeast Illinois Commuter Rail System, the Utah Transit Authority, the Tri-County Metropolitan Transportation District of Oregon, and the Fort Worth Transportation Authority; and industry stakeholders' comments during FRA's public meeting on April 19, 2016. FRA published minutes from the meeting on www.regulations.gov under Docket No. FRA-2016-0002. For a summary of the oral and written comments and FRA's responses to the comments, please see 81 FR 28140, May 9, 2016.

Following the 60-day public comment period after this notice is published, FRA will request OMB's re-approval of the forms, with the five changes described below. First, in Section 1 of the Quarterly PTC Progress Report Form (FRA F 6180.165), FRA proposes revising the row “Territories Where Revenue Service Demonstration Has Been Initiated” to state “Territories in Revenue Service Demonstration or in PTC Operation” for clarity, based on additional feedback from the industry following OMB's approval of the form on August 15, 2017. FRA intended this row to include any and all territories where a railroad had initiated revenue service demonstration (RSD), even if a railroad subsequently obtained PTC System Certification from FRA and is operating its PTC system in revenue service. The purpose of this row is to collect information regarding a railroad's progress toward meeting the statutory criteria under 49 U.S.C. 20157(a)(3)(B)(vi)-(vii), if applicable. Based on feedback from the industry, FRA proposes clarifying the language in this row in Section 1 so railroads understand that a railroad can include in this row the number of territories where its PTC system is in RSD or in operation. This proposed change does not result in any additional reporting burden as it is only a clarifying change.

Second, in footnotes 4 and 6 of the Quarterly PTC Progress Report Form (FRA F 6180.165), FRA proposes adding a hyperlink to Appendix A. The footnotes currently state: “If a particular category listed in this table does not apply to the railroad's technology, please indicate `N/A.' A railroad may add categories or subcategories if it wants to provide more detail.” FRA proposes adding the phrase “in Appendix A” to the second sentence with a hyperlink to that appendix to the form, as it will help direct railroads to the available section of the PDF where they can provide additional information. A hyperlink to Appendix A was in the corresponding footnotes in the prior version of the Quarterly PTC Progress Report Form that OMB approved through June 30, 2017, but the hyperlink was omitted in error from the current version of the form. This proposed change (i.e., adding a hyperlink to an existing appendix) does not result in any additional reporting burden as it is only a formatting change.

Third, in Section 4 (entitled “Installation/Track Segment Progress—Current Status”) of both the quarterly form and the annual form, FRA proposes replacing the “Testing” option in the drop-down menu with two more precise options—i.e., “Field Testing” and “Revenue Service Demonstration.” This modification will help ensure clearer and more accurate reporting, without imposing an additional reporting burden.

Fourth, with respect to only the Annual PTC Progress Report Form (FRA F 6180.166), FRA proposes to delete a now inapplicable instruction from footnote 7 in Section 4, which stated,

Please note: For the Annual PTC Progress Report due by March 31, 2017, this mandatory geographic requirement (that must be satisfied by either completing Column 5 in Section 4 or submitting a GIS shapefile as described above) is due to FRA by April 30, 2017. Every other part of this form must be completed and submitted to FRA by March 31, 2017. This limited extension applies only in 2017.

FRA delayed the due date for submitting that specific information in 2017 only, per OMB's request, to ensure railroads had sufficient time to compile and provide the information. FRA proposes removing that note from footnote 7 as it is no longer applicable or necessary. By statute, a railroad's Annual PTC Progress Report is due by March 31st each year. 49 U.S.C. 20157(c)(1).

Fifth, with respect to both the quarterly form and the annual form, FRA proposes making certain changes to Section 6 (entitled “Update on Interoperability Progress”). FRA proposes removing the portion of the instruction that states a host railroad must provide information about the status of each tenant railroad's rolling stock “if the tenant does not have a separate PTCIP on file.” FRA proposes removing this limiting instruction because FRA needs to know the PTC implementation status of any tenant railroad that operates on the host railroad's property, except any tenant railroad that is subject to an exception under 49 CFR 236.1006(b). In addition, before the final column in the table in Section 6, FRA proposes adding a column entitled, “Scheduled Completion Date for Interoperability Testing.” This information is necessary for FRA to understand the progress a host railroad and each of its required tenant railroads are jointly making toward testing and achieving PTC system interoperability, consistent with host railroad's PTC Implementation Plan and/or PTC Safety Plan. FRA estimates the additional burden for a host railroad to complete this new reporting requirement would be, on average, approximately 2.5 hours for Class I railroads and large passenger railroads; 1.25 hours for Class II and medium passenger railroads; and thirty minutes for Class III, terminal, and small passenger railroads.

III. Overview of Information Collection

The associated collection of information is summarized below. FRA will submit this information collection request to OMB for regular clearance as required by the PRA.

Titles: Quarterly Positive Train Control Progress Report and Annual Positive Train Control Progress Report.

OMB Control Number: 2130-0553.

Form Number(s): FRA F 6180.165 and FRA F 6180.166.

Affected Public: Businesses.

Frequency of Submission: On occasion.

Respondent Universe: 41 Railroad Carriers.

Reporting Burden:

Quarterly PTC progress report | Respondent universe | Total annual responses | Average time per response (hours) | Total annual burden hours
Form FRA F 6180.165 | 41 Railroads | 164 Reports/Forms | 22.84 | 3,746

FRA notes that the 22.84-hour estimate is an average for all railroads. FRA estimated the quarterly reporting burden is approximately 43 hours for the 11 Class I and large passenger railroads per quarterly form, approximately 28.75 hours for the 11 Class II and medium passenger railroads per quarterly form, and approximately 7.75 hours for the 19 Class III, terminal, and small passenger railroads per quarterly form.

Annual PTC progress report | Respondent universe | Total annual responses | Average time per response (hours) | Total annual burden hours
Form FRA F 6180.166 | 41 Railroads | 41 Reports/Forms | 39.65 | 1,626

FRA notes that the 39.65-hour estimate is an average for all railroads. FRA estimated the annual reporting burden is approximately 62.5 hours for the 11 Class I and large passenger railroads per annual form, approximately 41.25 hours for the 11 Class II and medium passenger railroads per annual form, and approximately 25.5 hours for the 19 Class III, terminal, and small passenger railroads per annual form.

Total Estimated Annual Responses for Form FRA F 6180.165: 164.

Total Estimated Annual Burden for Form FRA F 6180.165: 3,746 hours.

Total Estimated Annual Responses for Form FRA F 6180.166: 41.

Total Estimated Annual Burden for Form FRA F 6180.166: 1,625.75.

Respondent Universe: 41 Railroads.

Frequency of Submission: On occasion; quarterly; annually.

Reporting Burden:

CFR section | Respondent universe | Total annual responses | Average time per response | Total annual burden hours
Form FRA F 6180.166—Annual PTC Progress Report Form | 41 railroads | 41 reports/forms | 39.65 hours | 1,626
Form FRA F 6180.165—Quarterly PTC Progress Report Form | 41 railroads | 164 reports/forms | 22.84 hours | 3,746
234.275—Processor-based systems—Railroad letter explaining deviations of a product from requirements | 38 railroads | 25 letters | 4 hours | 100
235.6—Expedited application for approval of certain signal system changes described in this section | 38 railroads | 500 expedited applications | 5 hours | 2,500
—Copy of expedited application to labor union | 38 railroads | 500 copies | 30 minutes | 250
—Railroad rescindment letter of request for expedited application of certain signal system changes | 38 railroads | 25 letters | 6 hours | 150
—Revised application for certain signal system changes | 38 railroads | 13 applications | 5 hours | 65
—Copy of railroad revised application to labor union | 38 railroads | 13 copies | 30 minutes | 7
236.15—Designation of automatic block, traffic control, train stop, train control, cab signal, or PTC territory in timetable instructions | 38 railroads | 13 timetable instructions | 60 minutes | 7
236.18—Software Management Control Plan, New Railroads | 5 railroads | 1 plan | 2,150 hours | 2,150
—Subsequent years: Updated plans | 90 railroads | 20 updated plans | 1.50 hours | 30
236.905—Railroad Safety Program Plan (RSPP), New Railroads | 5 railroads | 1 RSPP | 135 hours | 135
—FRA request for additional information | 78 railroads | 1 document | 135 hours | 135
—Railroad request to modify RSPP | 78 railroads | 1 request for amendment | 400 hours | 400
236.907-909—Railroad petition for review and approval of Product Safety Plan (PSP) | 5 railroads | 2 petitions/reviews | 19,200 hours | 19,200
—Railroad sensitivity analysis supporting railroad risk assessment | 5 railroads | 5 analyses | 160 hours | 800
236.913—Filing and approval of joint PSP | 6 railroads | 1 joint plan | 25,600 hours | 25,600
—Informational filing/petition for special approval | 6 railroads | 6 filings/approval petitions | 1,928 hours | 11,568
—FRA request for further data after informational filing | 6 railroads | 2 data calls/documents | 800 hours | 1,600
—FRA request for further information within 15 days after receipt of Notice of Product Development | 6 railroads | 6 data calls/documents | 16 hours | 96
—Technical consultation by FRA with railroad on design and planned development of product | 6 railroads | 6 consultations | 120 hours | 720
—Railroad Petition to FRA for final approval | 6 railroads | 6 petitions | 16 hours | 96
—Comments to FRA on railroad informational filing or special approval petition | Public/railroad community | 7 comments/letters | 240 hours | 1,680
—Railroad amendment to PSP | 6 railroads | 15 amendments | 160 hours | 2,400
—Railroad field testing/informational filing document | 6 railroads | 6 field tests/documents | 3,200 hours | 19,200
236.917—Railroad retention of records: results of tests & inspections specified in PSP | 6 railroads | 3 procedures | 160,000 hours/160,000 hours/40,000 hours | 360,000
—Railroad report that frequency of safety relevant hazards exceeds threshold set forth in PSP | 6 railroads | 1 report | 104 hours | 104
236.919—Railroad Operations and Maintenance Manual (OMM) | 6 railroads | 6 OMM updates | 40 hours | 240
—Plans for proper maintenance, repair, inspection, and testing of safety critical products | 6 railroads | 6 plans | 53,335 hours | 320,010
—Documented hardware, software, & firmware revisions in OMM | 6 railroads | 6 revisions | 6,440 hours | 38,640
236.921—Training & qualification program | 6 railroads | 6 programs | 400 hours | 2,400
—Trained signalmen & dispatchers | 6 railroads | 300 trained signalmen + 20 tr. dispatchers | 40 hours + 20 hours | 12,400
236.923—Railroad Task analysis | 6 railroads | 6 analyses/documents | 720 hours | 4,320
—Railroad records designating other qualified persons | 6 railroads | 350 records | 10 minutes | 58
236.1001—Railroad additional or more stringent PTC rules and other special instructions than prescribed under this section | 38 railroads | 3 rules or instructions | 80 hours | 240
236.1005—Railroad request for relief in PTCIP or RFA to implement PTC system based on minimal quantity of PIH materials traffic | 38 railroads | 3 relief requests | 64 hours | 192
—Railroad request to temporarily reroute trains equipped with PTC onto tracks not equipped with PTC systems and vice versa | 38 railroads | 47 requests | 8 hours | 376
—Written or telephonic notice to FRA Regional Administrator of conditions necessitating emergency rerouting | 38 railroads | 47 written or telephonic notices | 2 hours | 94
—Planned maintenance: temporary rerouting requests | 38 railroads | 720 requests | 8 hours | 5,760
—Request to FRA for temporary rerouting exceeding 30 days | 38 railroads | 361 requests | 8 hours | 2,888
236.1006—Equipping locomotives operating in PTC territory—Class II or III railroad progress reports for equipping locomotives with onboard apparatus for movements exceeding 20 mph | 38 railroads | 35 reports | 16 hours | 560
236.1007—HSR-125 document accompanying railroad PTC Safety Plan (PTCSP) for host railroads conducting freight or passenger operations at more than 125 mph | 38 railroads | 3 HSR-125 documents | 3,200 hours | 9,600
—Railroad request to use foreign service data before submittal of PTCSP | 38 railroads | 2 data requests | 8,000 hours | 16,000
—Submission of PTCSP with HSR-125 document by host railroad conducting freight or passenger operations at more than 150 mph | 38 railroads | 3 PTCSPs with HSR-125 documents | 3,200 hours | 9,600
—Railroad request in PTCSP that FRA excuse compliance with one or more of this section's requirements | 38 railroads | 1 request | 1,000 hours | 1,000
236.1009—Railroad filing PTCIP with FRA for a main line track segment requiring PTC system implementation or request for amendment (RFA) to its PTCIP for initiating a new category of service or materially modifying one or more railroad lines requiring a PTC system | 38 railroads | 1 PTCIP + 20 RFAs | 535 hours + 320 hours | 6,935
—Host railroad filing unmodified Type Approval with FRA | 38 railroads | 2 documents | 8 hours | 16
—PTC Development Plan (PTCDP) requesting Type Approval for PTC system or request to modify previous Type Approval with one or more variances | 38 railroads | 20 cover letters + 20 modified Type Approvals + 2 PTCDPs | 8 hours + 1,600 hours + 6,400 hours | 44,960
—PTCSP or PTCDP translated from foreign language into English | 38 railroads | 1 document | 8,000 hours | 8,000
—Railroad request for confidentiality for a filing | 38 railroads | 38 cover letters + 38 confidentiality requests | 8 hours + 800 hours | 30,704
—Railroad field testing or independent assessment undertaken at FRA request for Type Approval or PTC System Certification | 38 railroads | 190 field tests + 2 assessments | 800 hours | 153,600
—Access interviews with railroad personnel associated with Type Approval or PTC System Certification and to determine compliance with this subpart | 38 railroads | 76 interviews | 30 minutes | 38
—Additional information to FRA on PTCDP and PTCSP | 38 railroads | 8 documents | 400 hours | 3,200
236.1011—PTCIP and public comment on PTCIPs, PTCDPs, and PTCSPs | 38 railroads | 1 PTCIP + 40 public comments | 143 hours + 8 hours | 400
236.1015—PTCSPs—Non-vital overlay | 38 railroads | 3 PTCSPs | 16,000 hours | 48,000
—Vital overlay | 38 railroads | 28 PTCSPs | 22,400 hours | 627,200
—Stand-alone | 38 railroads | 1 PTCSP | 32,000 hours | 32,000
—Railroad conference with FRA on mixed systems | 38 railroads | 3 conferences | 32 hours | 96
—PTCSP for Mixed System | 38 railroads | 1 PTCSP | 28,800 hours | 28,800
—Railroad provision of additional information to FRA upon request | 38 railroads | 19 documents | 3,200 hours | 60,800
—PTCSP replacing existing certified PTC system | 38 railroads | 19 PTCSPs | 3,200 hours | 60,800
—Non-quantitative risk assessment to FRA | 38 railroads | 19 assessments | 3,200 hours | 60,800
236.1017—Third Party Assessment | 38 railroads | 1 assessment | 8,000 hours | 8,000
—Host railroad written request to FRA to confirm whether a specific entity is independent | 38 railroads | 1 written request | 8 hours | 8
—Further information provided to FRA upon request | 38 railroads | 1 additional document | 160 hours | 160
—Waiver request regarding production of documents required for third party assessment | 38 railroads | 1 waiver request | 160 hours | 160
—Request for FRA to accept certified information from a foreign railroad regulatory entity | 38 railroads | 1 request | 32 hours | 32
236.1019—Main line track exception addendum | 38 railroads | 36 MTEAs | 160 hours | 5,760
—Intercity commuter or passenger line track exception addendum | 38 railroads | 19 MTEAs | 160 hours | 3,040
—Limited operation exception: railroad risk mitigation plan | 38 railroads | 19 plans | 160 hours | 3,040
—Limited operation exception: railroad collision hazard analysis to FRA | 38 railroads | 12 analyses | 1,600 hours | 19,200
—Temporal separation procedures | 38 railroads | 11 procedures | 160 hours | 1,760
236.1021—Request for amendment (RFA) to railroad PTCIP/PTCDP/PTCSP | 38 railroads | 19 RFAs | 160 hours | 3,040
—Review and comment on RFA by interested parties | 7 Interested parties | 7 reviews + 20 public comments | 3 hours + 16 hours | 341
236.1023—Railroad PTC Product Vendor List | 38 railroads | 38 lists | 8 hours | 304
—Railroad procedures for action to applicable vendor upon notification of a safety-critical failure, upgrade, patch, revision, replacement, or modification to PTC system | 38 railroads | 38 procedures | 16 hours | 608
—Railroad notification to vendor and FRA of failure, malfunction, or defective condition that decreased or eliminated safety functionality of PTC product | 38 railroads | 142 notifications | 16 hours | 2,272
—Notification updates | 38 railroads | 142 notice updates | 16 hours | 2,272
—Railroad and vendor report to FRA of results of investigation of accident or service difficulty related to PTC system or product because of a manufacturing or design defect | 38 railroads | 5 reports | 400 hours | 2,000
—PTC supplier or vendor report of PTC system or product safety-relevant failures, defective conditions, previously unidentified hazards, and recommended mitigation actions | 38 railroads | 142 reports + 142 report copies | 16 hours + 8 hours | 3,408
236.1029—PTC System Use: Report of en route failure | 38 railroads | 836 reports | 96 hours | 80,256
—Railroad submission to FRA of Order of Particular Applicability for approval | 38 railroads | 1 order | 3,200 hours | 3,200
—Railroad notice to FRA regional office of planned disabling of PTC system at least 7 days in advance and a contemporaneous notice of unplanned temporary disabling | 38 railroads | 76 notices + 114 unplanned notices | 10 hours | 1,900
236.1031—Railroad Request for Expedited Certification (REC) | 38 railroads | 3 REC letters | 160 hours | 480
—Railroad PTC system request to FRA for grandfathering of previously approved train control system | 38 railroads | 3 requests | 1,600 hours | 4,800
236.1035—Railroad request for approval to conduct field testing of uncertified PTC system with provision of required documents | 38 railroads | 190 requests | 800 hours | 152,000
—Railroad request to FRA for regulatory relief from certain requirements of 49 part 236 | 38 railroads | 38 requests | 320 hours | 12,160
236.1037—Records Retention—Results of inspections and tests specified in PTCSP and PTCDP | 38 railroads | 836 records | 4 hours | 3,344
—Records on testing, maintenance, or operation of PTC system | 38 railroads | 18,240 records | 30 minutes | 9,120
—Railroad report of frequency of safety-relevant hazards exceeding threshold set forth in PTCSP or PTCDP | 38 railroads | 4 reports | 8 hours | 32
—Railroad final report to FRA on results of analysis and countermeasures to reduce the frequency of safety-related hazards | 38 railroads | 4 final reports | 160 hours | 640
236.1039—Railroad development and/or update of PTC Operations and Maintenance Manual (OMM) | 38 railroads | 38 OMM updates | 250 hours | 9,500
—Railroad identification of PTC safety-critical components | 38 railroads | 114,000 I.D.s | 1 hour | 114,000
—OMM-designated PTC officer responsible for scheduled service interruptions | 38 railroads | 76 designated officers | 2 hours | 152
236.1041—PTC Training & Qualification Program | 38 railroads | 38 programs | 400 hours | 15,200
236.1043—Regular & periodic evaluations of PTC training program | 38 railroads | 38 regular & periodic evaluations | 720 hours | 27,360
—Training records | 38 railroads | 560 records | 10 minutes | 93
236.1045—PTC Training of Office Control Personnel | 38 railroads | 32 trained personnel | 20 hours | 640
236.1047—PTC Training of Operating Personnel | 38 railroads | 7,600 trained personnel | 3 hours | 22,800

Total Estimated Annual Responses: 147,526.

Total Estimated Annual Burden: 2,728,528 hours.

Under 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Brett Andrew Jortland,
Acting Deputy Chief Counsel.

[FR Doc. 2018-09909 Filed 5-9-18; 8:45 am]

BILLING CODE 4910-06-P